ENVIRONMENTAL PROTECTION AGENCY

[ER-FRL-6622-4]

Environmental Impact Statements; Notice of Availability

Responsible Agency: Office of Federal Activities, General Information (202) 564-7167 or www.epa.gov/oeca/ofa.

Weekly receipt of Environmental Impact Statements

Filed September 24, 2001 Through September 28, 2001

Pursuant to 40 CFR 1506.9.

EIS No. 010362, Final EIS, BLM, CA, Cadiz Groundwater Storage and Dry-Year Supply Program, Construction and Operation, Amendment of the California Desert Conservation Area (CDCA) Plan, Issuance of Right-of-Way Grants and Permits, San Bernardino County, CA, Due: November 05, 2001, Contact: James Williams (909) 697-5390.

EIS No. 010363, Draft EIS, FRC, ME, Presumpscot River Projects, Relicensing of Five Hydroelectric Projects for Construction and Operation, Dundee Project (FERC No. 2942); Gambo Project (FERC No. 2931); Little Falls Project (FERC No. 2932); Mallison Falls Project (FERC No. 2941) and Saccarappa Project (FERC No. 2897), Cumberland County, ME, Due: December 04, 2001, Contact: James Haimes (202) 219-2780. This document is available on the Internet at: http://www.ferc.fed.us/online/htm.

EIS No. 010364, Draft EIS, FHW, PA, Blair Mill Road Corridor Improvement Project, Widening of Blair Mill Road between Welsh Road, Horsham Road and between Moreland Avenue and County Line Road in Horsham and Upper Moreland Townships, Montgomery County, PA, Due: November 23, 2001, Contact: James A Cheatham (717) 221-3461.

EIS No. 010365, Draft EIS, RUS, AK, Southern Intertie Project, Constructing and Operating a new 138kV Transmission Line between the Kenai Peninsula and Anchorage, Right-of-Way Permit, Special-Use Permit, COE Section 10 and 404 Permit, Kenai Peninsula to Anchorage, AK, Due: December 05, 2001, Contact: Lawrence R. Wolfe (202) 720-1784. This document is available on the Internet at: http://www.usda.gov/rus/water/ees/eis/htm.

EIS No. 010366, Draft EIS, AFS, OR, Lemolo Watershed Projects, Implementing the Objectives for Management Areas 5 and 10 and Matrix Lands, Umpqua National Forest, Diamond Lake Ranger District, Douglas County, OR, Due: November 19, 2001, Contact: Patrick S. Williams (541) 498-2531.

EIS No. 010367, Draft EIS, BIA, CA, NV, Truckee River Water Quality Settlement Agreement-Federal Water Right Acquisition, Implementation, Truckee River, Placer County, CA and Washoe, Storey and Lyon Counties, NV, Due: December 03, 2001, Contact: Tom Strekal (775) 887-3500.

EIS No. 010368, Final Supplement, JUS, Cannabis Eradication in the Contiguous United States and Hawaii, Updated Information on Herbicidal Eradication New Scientific Data, Due: November 05, 2001, Contact: Joyce M. Elliott (202) 307-8923. This document is available on the Internet at: http://www.dea.gov/pubs/pblist.htm.

EIS No. 010369, Draft EIS, NPS, GA, Fort Frederica National Monument General Management Plan, Implementation, Saint Simons Island, Glynn County, GA, Due: December 15, 2001, Contact: Mike Tennent (912) 638-3630.

EIS No. 010370, Draft EIS, BIA, CA, Teayawa Energy Center, Construction and Operation of a 600 megawatt (MW) (nominal output), Natural-Gas-Fired, Combined-Cycle Energy Center, On Indian Trust Land, Torres Martinez Desert Cahuilla Indians Tribe, Coachella Valley, Riverside County, CA, Due: December 03, 2001, Contact: William Allan (916) 978-6043.

EIS No. 010371, Draft Supplement, AFS, CA, Herger-Feinstein Quincy Library Group Forest Act Pilot Project, Proposel to Analyze Options for Maintaining Defensible Fuel Profile Zones (DFPZs), Lassen, Plumas and Tahoe National Forests, Shasta, Lassen, Tehama, Yuba, Plumas and Battle Counties, CA, Due: November 19, 2001, Contact: David Arrasmith (916) 492-7559.

Amended Notices

EIS No. 010024, Draft EIS, FAA, CA, Los Angeles International Airports, Proposed Master Plan Improvements on Runway, New Taxiwaytops, New Terminal, New Air Cargo and Maintenance, Funding, Los Angeles, Los Angeles County, CA, Due: November 9, 2001, Contact: David B. Kessler (310) 725-3615.

Revision of FR Notice Published on 02/02/2001: CEQ Review Period Ending on 09/24/2001 has been Extended to 11/09/2001.

Dated: October 2, 2001.
Joseph C. Montgomery,
Director, NEPA Compliance Division, Office of Federal Activities.

[FR Doc. 01-25025 Filed 10-4-01; 8:45 am]

BILLING CODE 6560-50-U